NATIONAL CREDIT UNION ADMINISTRATION

Sunshine Act Meeting

TIME AND DATE: 10 a.m., Thursday, May 19, 2005.

PLACE: Board Room, 7th Floor, Room 7047, 1775 Duke Street, Alexandria, VA 22314-3428.

STATUS: Open.

MATTERS TO BE CONSIDERED: 1. Proposed Rule: Interpretive Ruling and Policy Statement (IRPS) 05-1, Sales of Nondeposit Investments.

2. Proposed Rule: Part 713 of NCUA's Rules and Regulations, Fidelity Bonds and Insurance Coverage for Federal Credit Unions.

FOR FURTHER INFORMATION CONTACT: Mary Rupp, Secretary of the Board, Telephone: (703) 518-6304.

Mary Rupp,
Secretary of the Board.

[FR Doc. 05-9851 Filed 5-13-05; 8:52 am]

BILLING CODE 7535-01-M